RAILROAD RETIREMENT BOARD

Sunshine Act Meetings

TIME AND DATE: 11 a.m., January 19, 2022.ⁱ

ⁱ By unanimous, recorded vote of the Board members of the Railroad Retirement Board, such Board members determined that agency business required that this meeting be called with less than one week notice. 5 U.S.C. 552b(e)(1).

PLACE: 844 North Rush Street, Chicago, Illinois 60611.

STATUS: Closed.

MATTERS TO BE CONSIDERED:

(1) Internal Personnel Matters

CONTACT PERSON FOR MORE INFORMATION: Stephanie Hillyard, Secretary to the Board, Phone No. 312-751-4920.

Authority: 5 U.S.C. 552b.

Dated: January 21, 2022.
Stephanie Hillyard,
Secretary to the Board.

[FR Doc. 2022-01563 Filed 1-24-22; 11:15 am]

BILLING CODE 7905-01-P